FEDERAL TRADE COMMISSION

16 CFR Part 305

Rule Concerning Disclosures Regarding Energy Consumption and Water Use of Certain Home Appliances and Other Products Required Under the Energy Policy and Conservation Act (“Appliance Labeling Rule”)

AGENCY: Federal Trade Commission.

ACTION: Final rule.

SUMMARY: The Federal Trade Commission (“Commission”) amends its Appliance Labeling Rule (“Rule”) by publishing new ranges of comparability for required labels on central air conditioners, heat pumps, and compact dishwashers. The Commission also announces that the current ranges of comparability for standard dishwashers will remain in effect until further notice.

DATES: Effective Date: The amendments announced in this document will become effective on January 23, 2006.

FOR FURTHER INFORMATION CONTACT: Hampton Newsome, Attorney, Division of Enforcement, Federal Trade Commission, Washington, DC 20580 (202-326-2889).

SUPPLEMENTARY INFORMATION: The Appliance Labeling Rule was issued by the Commission in 1979, 44 FR 66466 (Nov. 19, 1979), in response to a directive in the Energy Policy and Conservation Act of 1975 (“EPCA”).¹ The Rule covers several categories of major household appliances including dishwashers, central air conditioners, and heat pumps.

¹ 42 U.S.C. 6294. The statute also requires the Department of Energy (“DOE”) to develop test procedures that measure how much energy the appliances use and to determine the representative average cost a consumer pays for the different types of energy available.

The Rule requires manufacturers of all covered appliances to disclose specific energy consumption or efficiency information (derived from the DOE test procedures) at the point of sale in the form of an “EnergyGuide” label and in catalogs. The Rule requires manufacturers to include, on labels and fact sheets, an energy consumption or efficiency figure and a “range of comparability.” This range shows the highest and lowest energy consumption or efficiencies for all comparable appliance models so consumers can compare the energy consumption or efficiency of other models (perhaps competing brands) similar to the labeled model. The Rule also requires manufacturers to include, on labels for some products, a secondary energy usage disclosure in the form of an estimated annual operating cost based on a specified DOE national average cost for the fuel the appliance uses.

Section 305.8(b) of the Rule requires manufacturers, after filing an initial report, to report certain information annually to the Commission by specified dates for each product type.² These reports, which assist the Commission in preparing the ranges of comparability, contain the estimated annual energy consumption or energy efficiency ratings for the appliances derived from tests performed pursuant to the DOE test procedures. Because manufacturers regularly add new models to their lines, improve existing models, and drop others, the data base from which the ranges of comparability are calculated is constantly changing. To keep the required information on labels consistent with these changes, the Commission will publish new ranges if an analysis of the new information indicates that the upper or lower limits of the ranges have changed by more than 15%. Otherwise, the Commission will publish a statement that the prior ranges remain in effect for the next year.

² Reports for dishwashers are due June 1. Reports for central air conditioners and heat pumps are due July 1.

I. 2005 Dishwasher Ranges

The Commission has analyzed the annual data submissions for dishwashers. The ranges of comparability for standard dishwashers have not changed significantly this year.³ Therefore, the manufacturers of standard dishwashers should continue to use the ranges published by the Commission on September 9, 2004 (69 FR 54558). The compact dishwasher data, however, indicates a significant change to the high and low of the range. Accordingly, the Commission is amending the range for compact dishwashers in Appendix C1 of the Rule. The new ranges of comparability for compact dishwashers supersede the current ranges, which were published on September 9, 2004 (69 FR 54558).

³ The Commission's classification of “standard” and “compact” dishwashers is based on internal load capacity. Appendix C of the Commission's Rule defines “compact” as including countertop dishwasher models with a capacity of fewer than eight (8) place settings and “standard” as including portable or built-in dishwasher models with a capacity of eight (8) or more place settings. The Rule requires that place settings be determined in accordance with appendix C to 10 CFR part 430, subpart B, of DOE's energy conservation standards program.

Compact dishwasher manufacturers must base the disclosures of estimated annual operating cost required at the bottom of EnergyGuide labels for compact dishwashers on the 2005 Representative Average Unit Costs of Energy for electricity (9.06 cents per kilowatt-hour) and natural gas ($1.09 per therm) that were published by DOE on March 11, 2005 (70 FR 12210). The new ranges for compact models will become effective on January 23, 2006.

II. 2005 Central Air Conditioner and Heat Pump Information

The annual data submissions for central air conditioners and heat pumps indicate a significant change for split system central air conditioners. In addition, new DOE minimum conservation standards for these products will become effective on January 23, 2006 (see 69 FR 50997 (August 17, 2004)). All models manufactured after that date will have to meet the new DOE minimum efficiency standards (unless the model is subject to a DOE exemption). Accordingly, the Commission has amended all applicable ranges so that they are consistent with DOE's new minimum requirements. The effective date for the new ranges will coincide with the effective date for the new DOE requirements.⁴

⁴ The ranges for central air conditioners and heat pumps have not been amended since September 16, 1996 (61 FR 48620).

III. Administrative Procedure Act

The amendments published in this notice involve routine, technical and minor, or conforming changes to the labeling requirements in the Rule. These technical amendments merely provide a routine change to the range and cost information required on EnergyGuide labels and fact sheets. Accordingly, the Commission finds for good cause that public comment for these technical, procedural amendments is impractical and unnecessary (5 U.S.C. 553(b)(A)(B) and (d)).

IV. Regulatory Flexibility Act

The provisions of the Regulatory Flexibility Act relating to a Regulatory Flexibility Act analysis (5 U.S.C. 603-604) are not applicable to this proceeding because the amendments do not impose any new obligations on entities regulated by the Appliance Labeling Rule. These technical amendments merely provide a routine change to the range information required on EnergyGuide labels. Thus, the amendments will not have a “significant economic impact on a substantial number of small entities.” 5 U.S.C. 605. The Commission has concluded, therefore, that a regulatory flexibility analysis is not necessary, and certifies, under section 605 of the Regulatory Flexibility Act (5 U.S.C. 605(b)), that the amendments announced today will not have a significant economic impact on a substantial number of small entities.

V. Paperwork Reduction Act

In a June 13, 1988 notice (53 FR 22106), the Commission stated that the Rule contains disclosure and reporting requirements that constitute “information collection requirements” as defined by 5 CFR 1320.7(c), the regulation that implements the Paperwork Reduction Act.⁵ The Commission noted that the Rule had been reviewed and approved in 1984 by the Office of Management and Budget (“OMB”) and assigned OMB Control No. 3084-0068. OMB has reviewed the Rule and extended its approval for its recordkeeping and reporting requirements until December 31, 2007. The amendments now being adopted do not change the substance or frequency of the recordkeeping, disclosure, or reporting requirements and, therefore, do not require further OMB clearance.

⁵ 44 U.S.C. 3501-3520.

List of Subjects in 16 CFR Part 305

Advertising, Energy conservation, Household appliances, Labeling, Reporting and recordkeeping requirements.

Accordingly, 16 CFR Part 305 is amended as follows:

PART 305—[AMENDED]

1. The authority citation for Part 305 continues to read as follows:

Authority: 42 U.S.C. 6294.

2. Appendix C1 to Part 305 is revised to read as follows:

Appendix C1 to Part 305—Compact Dishwashers

Range Information

“Compact” includes countertop dishwasher models with a capacity of fewer than eight (8) place settings. Place settings shall be in accordance with appendix C to 10 CFR part 430, subpart B. Load patterns shall conform to the operation normal for the model being tested.

Capacity | Range of estimated annual energy consumption (kWh/yr.): Low | Range of estimated annual energy consumption (kWh/yr.): High
Compact | 143 | 320

Cost Information

When the above ranges of comparability are used on EnergyGuide labels for compact-sized dishwashers, the estimated annual operating cost disclosure appearing in the box at the bottom of the labels must be derived using the 2005 Representative Average Unit Costs for electricity (9.06¢ per kiloWatt-hour) and natural gas ($1.09 per therm), and the text below the box must identify the costs as such.

3. Section 1 of Appendix H to Part 305 is revised to read as follows:

Appendix H to Part 305—Cooling Performance and Cost for Central Air Conditioners

1. Range Information

Manufacturer's rated cooling capacity (Btu's/hr.) | Range of SEER's: Low | Range of SEER's: High
Single Package Units
Central Air Conditioners (Cooling Only): All capacities | 10.60 | 16.05
Heat Pumps (Cooling Function): All capacities | 10.60 | 15.60
Split System Units
Central Air Conditioners (Cooling Only): All capacities | 10.90 | 20.50
Heat Pumps (Cooling Function): All capacities | 10.90 | 18.60

* * * * *

4. Section 1 of Appendix I to Part 305 is revised to read as follows:

Appendix I to Part 305—Heating Performance and Cost for Central Air Conditioners

1. Range Information

Manufacturer's rated heating capacity (Btu's/hr.) | Range of HSPF's: Low | Range of HSPF's: High
Single Package Units
Heat Pumps (Heating Function): All capacities | 7.00 | 8.20
Split System Units
Heat Pumps (Heating Function): All capacities | 7.10 | 10.55

The HSPF shall be the Region IV value based on the appropriate average design heat loss from the table below.

* * * * *

5. Prototype Label 4 in Appendix L to Part 305 is amended to read as follows:

Appendix L to Part 305—Sample Labels

* * * * *

BILLING CODE 6750-01-P

* * * * *

6. Prototype Label 5 in Appendix L to Part 305 is amended to read as follows:

Appendix L to Part 305—Sample Labels

* * * * *

* * * * *

7. Sample Label 8 in Appendix L to Part 305 is amended to read as follows:

Appendix L to Part 305—Sample Labels

* * * * *

* * * * *

8. Sample Label 9 in Appendix L to Part 305 is amended to read as follows:

Appendix L to Part 305—Sample Labels

* * * * *

* * * * *

By direction of the Commission.
Donald S. Clark,
Secretary.

[FR Doc. 05-20922 Filed 10-18-05; 8:45 am]

BILLING CODE 6750-01-C